DEPARTMENT OF AGRICULTURE

Submission for OMB Review; Comment Request

April 7, 2021.

The Department of Agriculture will submit the following information collection requirement(s) to OMB for review and clearance under the Paperwork Reduction Act of 1995, Public Law 104-13 on or after the date of publication of this notice. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding these information collections are best assured of having their full effect if received by May 12, 2021. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

National Agricultural Statistics Service

Title: Water Use Surveys.

OMB Control Number: 0535-0262.

Summary of Collection: The primary function of the National Agricultural Statistics Service (NASS) is to prepare and issue current official State and national estimates of crop and livestock production, value, and disposition, and resource use. General authority for these data collection activities is granted under U.S. Code Title 7, Section 2204. This statute specifies that “The Secretary of Agriculture shall procure and preserve all information concerning agriculture which he can obtain . . . by the collection of statistics . . . and shall distribute them among agriculturists.”

Need and Use of the Information: NASS will conduct a census of agricultural operations that likely use between 10,000 to 999,999 gallons of water in any one day for agricultural purposes in North Carolina. The universe size is around 3,700 operations. The operations will be asked to provide monthly or daily water use and the source (ground or surface water) by county. For operations that are unable to provide water use data, an estimation guide is included in the questionnaire that the respondents can use to estimate their water usage based on their agricultural production data.

The summarized and published information will be analyzed by the NCDACS and data users to investigate water use in North Carolina to include:

• Average number of days per month there was demand for 10,000 to 999,999 gallons of water per day.

• Average daily usage of water for operations that use 10,000 to 999,999 gallons of water in any one day.

• Aggregated statistics for operations that use 10,000 to 999,999 gallons of water in any one day by county and hydrologic unit code.

The program will help the North Carolina Department of Agriculture and Consumer Services and North Carolina Department of Environmental Quality fulfill requirements of North Carolina state legislation enacted in 2008. Collecting data less frequently would prevent the agriculture industry from being kept abreast of water use changes for North Carolina.

Description of Respondents: Farms; Businesses or other for-profit.

Number of Respondents: 3,700.

Frequency of Responses: Reporting: Annually.

Total Burden Hours: 1,773.

Levi S. Harrell,
Departmental Information Collection Clearance Officer.

[FR Doc. 2021-07412 Filed 4-9-21; 8:45 am]

BILLING CODE 3410-20-P